OFFICE OF PERSONNEL MANAGEMENT

5 CFR Part 532

RIN 3206-AN48

Prevailing Rate Systems; Redefinition of Certain Nonappropriated Fund Federal Wage System Wage Areas

AGENCY: U.S. Office of Personnel Management.

ACTION: Proposed rule with request for comments.

SUMMARY: This rule proposes to amend the geographic boundaries of several nonappropriated fund (NAF) Federal Wage System (FWS) wage areas. Based on recommendations of the Federal Prevailing Rate Advisory Committee (FPRAC), the U.S. Office of Personnel Management (OPM) would define Lee County, Florida, as an area of application county to the Hillsborough, FL, NAF FWS wage area; Leon County, FL, as an area of application county to the Lowndes, Georgia, NAF FWS wage area; Fulton County, GA, as an area of application county to the Cobb, GA, NAF FWS wage area; and Lane County, Oregon, as an area of application county to the Pierce, Washington, NAF FWS wage area. These changes are necessary because there are NAF FWS employees working in these four counties, and the counties are not currently defined to NAF wage areas. In addition, OPM is proposing to remove Mississippi County, AR, from the wage area definition of the Shelby, TN, NAF FWS wage area because there are no longer NAF FWS employees working in the county.

DATES: We must receive comments on or before February 13, 2017.

ADDRESSES: You may submit comments, identified by RIN 3206-AN48, using any of the following methods:

Federal eRulemaking Portal: http://www.regulations.gov. Follow the instructions for submitting comments.

Mail: Brenda L. Roberts, Deputy Associate Director for Pay and Leave, Employee Services, U.S. Office of Personnel Management, Room 7H31, 1900 E Street NW., Washington, DC 20415-8200.

Email: pay-leave-policy@opm.gov.

FOR FURTHER INFORMATION CONTACT: Madeline Gonzalez, by telephone at (202) 606-2838 or by email at pay-leave-policy@opm.gov.

SUPPLEMENTARY INFORMATION: OPM is issuing a proposed rule that would make changes to several NAF FWS wage area definitions. The Department of Veterans Affairs notified OPM that the Veterans Canteen Service (VCS) now employs NAF FWS employees in Lee and Leon Counties, FL; Fulton County, GA; and Lane County, OR. In addition, OPM is proposing to remove Mississippi County, AR, from the wage area definition of the Shelby, TN, NAF FWS wage area because there are no longer NAF FWS employees working in the county.

Under § 532.219 of title 5, Code of Federal Regulations (CFR), each NAF wage area “shall consist of one or more survey areas, along with nonsurvey areas, if any, having nonappropriated fund employees.” Lee, Leon, Fulton, and Lane Counties do not meet the regulatory criteria under 5 CFR 532.219 to be established as separate NAF wage areas; however, nonsurvey counties may be combined with a survey area to form a wage area. Section 532.219 lists the regulatory criteria that OPM considers when defining FWS wage area boundaries:

(i) Proximity of largest facilities activity in each county;

(ii) Transportation facilities and commuting patterns; and

(iii) Similarities of the counties in—

(A) Overall population;

(B) Private employment in major industry categories; and

(C) Kinds and sizes of private industrial establishments.

OPM recently completed reviews of the definitions of Lee, Leon, Fulton, Lane, and Mississippi Counties and is proposing the changes described below. FPRAC, the national labor-management committee responsible for advising OPM on matters concerning the pay of FWS employees, recommended these changes by consensus. These changes would apply on the first day of the first applicable pay period beginning on or after 30 days following publication of the final regulations.

Lee County, FL

Lee County would be defined as an area of application county to the Hillsborough, FL, NAF FWS wage area. The proximity criterion favors the Hillsborough wage area. The transportation facilities criterion favors the Hillsborough wage area. The commuting patterns criterion does not favor one wage area more than another. The overall population, employment sizes, and kinds and sizes of private industrial establishments criterion does not favor one wage area more than another. While a standard review of regulatory criteria shows mixed results, the proximity criterion solidly favors the Hillsborough wage area.

With the definition of Lee County to the Hillsborough NAF wage area, the Hillsborough wage area would consist of one survey county, Hillsborough County, and three area of application counties: Lee, Pinellas, and Polk Counties, FL.

Leon County, FL

Leon County would be defined as an area of application county to the Lowndes, GA, NAF FWS wage area. The proximity criterion favors the Lowndes wage area. The transportation facilities and commuting patterns criterion does not favor one wage area more than another. Although the overall population, employment sizes, and kinds and sizes of private industrial establishments criterion does not favor one wage area more than another, the industrial distribution pattern for Leon County is similar to the Lowndes survey area. Based on this analysis, we recommend that Leon County be defined to the Lowndes NAF wage area.

With the definition of Leon County to the Lowndes NAF wage area, the Lowndes wage area would consist of one survey county, Lowndes County, GA, and one area of application county, Leon County, FL.

Fulton County, GA

Fulton County would be defined as an area of application county to the Cobb, GA, NAF FWS wage area. The closest NAF wage area to Fulton County is the Cobb wage area. There are no other NAF wage areas in the immediate vicinity of Fulton County. The VCS No.357 is located approximately 22 miles from Dobbins Air Reserve Base, the Cobb wage area's host activity. Based on this analysis, we recommend that Fulton County be defined to the Cobb NAF wage area.

With the definition of Fulton County to the Cobb NAF wage area, the Cobb wage area would consist of one survey county, Cobb County, GA, and three area of application counties: Bartow, De Kalb, and Fulton Counties, GA.

Lane County, OR

Lane County would be defined as an area of application county to the Pierce, WA, NAF FWS wage area. The closest NAF wage area to Lane County is the Pierce, WA, wage area. There are no other NAF wage areas in the immediate vicinity of Lane County. While VCS No. 356 is located approximately 240 miles from Joint Base Lewis-McChord, the Pierce wage area's host activity, Lane County is adjacent to two counties currently defined to the Pierce wage area: Coos and Douglas Counties, OR. Based on this analysis, we recommend that Lane County be defined to the Pierce NAF wage area.

With the definition of Lane County to the Pierce NAF wage area, the Pierce wage area would consist of one survey county, Pierce County, WA, and eight area of application counties: Clatsop, Coos, Douglas, Lane, Multnomah, and Tillamook Counties, OR, and Clark and Grays Harbor, WA.

Mississippi County, AR

Mississippi County would be removed as an area of application county to the Shelby, TN, NAF FWS wage area. No NAF FWS employment has been reported in Mississippi County since the closure of Eaker Air Force Base in 1992, and NAF employers have no plans to establish an activity there in the future. Under 5 U.S.C. 5343(a)(1)(B)(i), NAF wage areas “shall not extend beyond the immediate locality in which the particular prevailing rate employees are employed.” Therefore, Mississippi County should not be defined as part of an NAF wage area.

With the removal of Mississippi County from the Shelby NAF wage area, the Shelby wage area would consist of one survey county, Shelby County, TN, and one area of application county, Butler County, MO.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Beth F. Cobert,
Acting Director.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

Appendix D to Subpart B of Part 532—Nonappropriated Fund Wage and Survey Areas

2. Appendix D to Subpart B is amended by revising the wage area listing for the Hillsborough, FL; Cobb, GA; Lowndes, GA; Shelby, TN; and Pierce, WA, wage areas to read as follows:

* * * * *
FLORIDA
* * * * *
Hillsborough
Survey Area
Florida:
Hillsborough
Area of Application. Survey area plus:
Florida:
Lee
Pinellas
Polk
* * * * *
GEORGIA
* * * * *
Cobb
Survey Area
Georgia:
Cobb
Area of Application. Survey area plus:
Georgia:
Bartow
De Kalb
Fulton
* * * * *
Lowndes
Survey Area
Georgia:
Lowndes
Area of Application. Survey area plus:
Florida:
Leon
* * * * *
TENNESSEE
Shelby
Survey Area
Tennessee:
Shelby
Area of Application. Survey area plus:
Missouri:
Butler
* * * * *
WASHINGTON
* * * * *
Pierce
Survey Area
Washington:
Pierce
Area of Application. Survey area plus:
Oregon:
Clatsop
Coos
Douglas
Multnomah
Tillamook
Washington:
Clark
Grays Harbor
Lane
* * * * *

[FR Doc. 2017-00577 Filed 1-11-17; 8:45 a.m.]

BILLING CODE 6325-39-P